DEPARTMENT OF ENERGY

Federal Energy Regulatory Commission

[Docket No. RP07-339-000]

Texas Gas Transmission, LLC; Notice of Technical Conference

April 10, 2007.

The Commission's Order issued March 29, 2007,¹ directed that a technical conference be held to investigate all aspects of Texas Gas Transmission, LLC's proposal to amend its tariff with respect to the capacity allocation method for its supply laterals.

¹ Texas Gas Transmission, LLC, 118 FERC ¶ 61,259 (2007).

Take notice that a technical conference will be held on Tuesday, April 17, 2007 at 10 a.m., in a room to be designated at the offices of the Federal Energy Regulatory Commission, 888 First Street, NE., Washington, DC. 20426.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Jacob Silverman at (202) 502-8445 or e-mail Jacob silverman@ferc.gov.

All interested parties and staff are permitted to attend.

Kimberly D. Bose,
Secretary.

[FR Doc. E7-7166 Filed 4-13-07; 8:45 am]

BILLING CODE 6717-01-P